FEDERAL COMMUNICATIONS COMMISSION

47 CFR Part 73

[DA 03-3875; MB Docket No. 03-22, RM-10597]

Radio Broadcasting Services; Racine, OH, and Ravenswood, WV

AGENCY: Federal Communications Commission.

ACTION: Final rule.

SUMMARY: In response to a Notice of Proposed Rulemaking, 68 FR 7964 (February 19, 2003), this document grants a petition for rulemaking filed by Legend Communications of West Virginia, LLC, licensee of Station WLWF(FM), proposing to reallot Channel 226A from Ravenswood, West Virginia, to Racine, Ohio, as the community's first local aural transmission service, and modify the license for Station WLWF(FM)'s license to reflect the change of community. Channel 226A is reallotted to Racine, at Station WLWF(FM)'s existing transmitter site 14.4 kilometers (9 miles) southeast of the community at coordinates 38-53-36 NL and 81-46-52 WL . Since this proposal is within 320 kilometers (200 miles) of the U.S.-Canada border, concurrence of the government of Canada to the proposed allotment has been requested but not received. Operation with the facilities specified for Racine is subject to modification, suspension, or termination without right to hearing, if found by the Commission to be necessary in order to conform to the Canada-United States FM Broadcast Agreement or if specifically objected to by Industry Canada.

DATES: Effective January 23, 2004.

FOR FURTHER INFORMATION CONTACT: Victoria M. McCauley, Media Bureau, (202) 418-2180.

SUPPLEMENTARY INFORMATION: This is a synopsis of the Commission's Report and Order, MB Docket No. 03-22, adopted December 3, 2003, and released December 8, 2003. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, and 336.

2. Section 73.202(b), the Table of FM Allotments under Ohio, is amended by adding Racine, Channel 226A.

3. Section 73.202(b), the Table of FM Allotments under West Virginia, is amended by removing Ravenswood, Channel 226A.

Federal Communications Commission.
John A. Karousos,
Assistant Chief, Audio Division, Media Bureau.

[FR Doc. 03-31261 Filed 12-18-03; 8:45 am]

BILLING CODE 6712-01-P